DEPARTMENT OF COMMERCE

National Oceanic and Atmospheric Administration

RIN 0648-XD076

International Affairs; U.S. Fishing Opportunities in the Northwest Atlantic Fisheries Organization Regulatory Area

AGENCY: National Marine Fisheries Service (NMFS), National Oceanic and Atmospheric Administration (NOAA), Commerce.

ACTION: Notification of U.S. fishing opportunities.

SUMMARY: NMFS announces fishing opportunities in the Northwest Atlantic Fisheries Organization (NAFO) Regulatory Area. This action is necessary to make fishing privileges available on an equitable basis.

DATES: Effective January 1, 2014, through December 31, 2014. Expressions of interest regarding fishing opportunities in NAFO will be accepted through February 6, 2014.

ADDRESSES: Expressions of interest regarding U.S. fishing opportunities in NAFO should be made in writing to Douglas W. Christel in the NMFS Northeast Regional Office, at 55 Great Republic Drive, Gloucester, MA 01930 (phone: 978-281-9141, email: Douglas.Christel@noaa.gov).

Information relating to chartering vessels of another NAFO Contracting Party, or transferring NAFO fishing opportunities to or from another NAFO Contracting Party is available from Patrick E. Moran in the NMFS Office of International Affairs at 1315 East-West Highway, Silver Spring, MD 20910 (phone: 301-427-8370, fax: 301-713-2313, email: Pat.Moran@noaa.gov). Information relating to NAFO fishing opportunities, NAFO Conservation and Enforcement Measures, and the High Seas Fishing Compliance Act (HSFCA) Permit is available from Douglas Christel, at the NMFS Northeast Regional Office at 55 Great Republic Drive, Gloucester, MA 01930 (phone: 978-281-9141, fax: 978-281-9135, email: douglas.christel@noaa.gov) and from NAFO on the World Wide Web at http://www.nafo.int.

FOR FURTHER INFORMATION CONTACT: Douglas W. Christel, 978-281-9141.

SUPPLEMENTARY INFORMATION:

What fishing opportunities are available?

The principal species managed by NAFO are cod, flounder, redfish, American plaice, halibut, hake, capelin, shrimp, skates and Illex squid. NAFO maintains conservation measures for fishery resources in its Regulatory Area that are managed by total allowable catches (TACs) and allocated among NAFO Contracting Parties. At the 2013 NAFO Annual Meeting, the United States received national quota allocations for three NAFO stocks to be fished during 2014. However, only redfish and squid will be made available to U.S. fishing interests during 2014, as further described below. The species, location, and allocation (in metric tons (mt)) of these 2014 U.S. fishing opportunities, as found in Annexes I.A, I.B, and I.C of the 2014 NAFO Conservation and Enforcement Measures, are as follows:

1. Redfish, NAFO Division 3M, 69 mt.

2. Squid (Illex), NAFO Subareas 3 & 4, 453 mt.

3. Shrimp, NAFO Division 3L, 48 mt.

Additionally, the United States may be transferred up to 1,000 mt of NAFO Division 3LNO yellowtail flounder from Canada's quota allocation if requested before January 1 of each year, or any succeeding year through 2018, based upon a bilateral arrangement with Canada. The United States has already requested this 1,000 mt of Division 3LNO yellowtail flounder from Canada for 2014. The arrangement with Canada also states that up to 500 mt of additional Division 3LNO yellowtail flounder could be made available on the condition that the United States transfers its Division 3L shrimp allocation (48 mt in 2014) to Canada. However, the United States will not be requesting such an additional transfer during 2014 due to the poor status of the Division 3L shrimp stock. More information on this situation is provided below. The arrangement for the transfer of Canadian yellowtail flounder quota would enable U.S. vessels to harvest American plaice as bycatch in the yellowtail flounder fishery in an amount equal to 15 percent of the total yellowtail flounder quota transferred to the United States. Additional quota for these and other stocks managed within the NAFO Regulatory Area may be available to U.S. vessels through industry-initiated chartering arrangements or transfers of quota from other NAFO Contracting Parties.

As noted above, the United States received a Division 3L shrimp allocation of 48mt for 2014. However, at the 2013 NAFO Annual Meeting, the NAFO Scientific Council recommended closure of the 3L shrimp fishery due to on-going decline in this shrimp stock. Following contentious discussion and a closed-session vote on the issue, NAFO adopted a 50-percent reduction in the 2014 TAC for 3L shrimp. This decision to act in contravention to the best available scientific advice was not supported by the United States (and a number of other NAFO Parties). Thus, the United States will not make its 2014 allocation of Division 3L shrimp available for harvest, charter or trade this year.

U.S. fishermen may also access stocks in which the United States has not received a national quota (also known as the “Others” allocation), including: Division 3M cod (58 mt); Division 3LN redfish (42 mt); Division 3O redfish (100 mt); Division 3NO white hake (59 mt); and Division 3LNO skates (258 mt). Note that the United States shares these allocations with other NAFO Contracting Parties, and access to such stocks is on a first-come-first-served basis. Fishing is halted by NAFO when the “Others” allocation for a particular stock has been fully harvested.

U.S. fishermen interested in harvesting species not currently regulated by NAFO, but occurring within the NAFO Regulatory Area, should contact the NMFS Northeast Regional Office for information regarding permitting and other requirements.

Who can apply for these fishing opportunities?

Expressions of interest to fish for any or all of the 2014 U.S. fishing opportunities in NAFO described above will be considered from all U.S. fishing interests (e.g., vessel owners, processors, agents, others). Applicants are urged to carefully review and thoroughly address the application requirements and selection criteria as detailed below. Expressions of interest should be directed in writing to Douglas W. Christel (see ADDRESSES).

What information is required in an application letter?

Expressions of interest should include a detailed description of anticipated fishing operations in 2014. This includes, but is not limited to, the following elements: intended target species; proposed dates of fishing operations; vessels to be used to harvest fish, including the name, registration, and home port of the intended harvesting vessel, as appropriate; the number of fishing personnel involved in vessel operations; intended landing port; for landing ports outside of the United States, whether or not the product will be shipped to the United States for processing; processing facilities to be employed; target market for harvested fish; and evidence demonstrating the ability of the applicant to successfully prosecute fishing operations in the NAFO Regulatory Area. Note that U.S. applicant vessels must be in possession of, or eligible for, a valid HSFCA permit, which is available from the NMFS Northeast Regional Office. Information regarding other requirements for fishing in the NAFO Regulatory Area is detailed below and is also available from the NMFS Northeast Regional Office (see ADDRESSES). U.S. applicants wishing to harvest U.S. allocations using a vessel from another NAFO Contracting Party, or hoping to transfer U.S. allocations to another NAFO Contracting Party, should see below for details on U.S. and NAFO requirements for such activities. If you have further questions regarding what information is required in an expression of interest, please contact Douglas W. Christel (see ADDRESSES).

What criteria will be used in identifying successful applicants?

Applicants demonstrating the greatest benefits to the United States through their intended operations will be most successful. Such benefits might include (but are not limited to): the use of U.S vessels; detailed, positive impacts on U.S. employment; use of U.S. processing facilities; transport, marketing and sales of product within the United States; other benefits to U.S. businesses; and documentation of the physical characteristics and economics of the fishery for future use by the U.S. fishing industry. A documented history of successful fishing operations in NAFO or other similar fisheries will also be considered. After reviewing all requests for allocations submitted, NMFS may decide not to grant any allocations if it is determined that no requests adequately meet the criteria described in this notice. To ensure equitable access by U.S. fishing interests, NMFS may provide additional guidance or procedures, or may promulgate regulations designed to allocate fishing interests to one or more U.S. applicants from among qualified applicants.

All applicants will be notified of the allocation decision as soon as possible. Once allocations have been awarded, NMFS will immediately take appropriate steps to notify NAFO and other appropriate actions to facilitate operations by U.S. fishing interests.

What if I want to charter a vessel to fish available U.S. allocations?

Under the bilateral arrangement with Canada, the United States may enter into a chartering (or other) arrangement with a Canadian vessel to harvest the transferred yellowtail flounder. For other NAFO-regulated stocks, the United States may enter into a chartering arrangement with a vessel from any other NAFO Contracting Party. Prior notification to the NAFO Executive Secretary is necessary in either case. Expressions of interest intending to make use of another NAFO Contracting Party vessel under chartering arrangements should provide the following information: the name and registration number of the intended vessel; a copy of the charter agreement; a detailed fishing plan; a written letter of consent from the applicable NAFO Contracting Party; the date from which the vessel is authorized to commence fishing; and the duration of the charter (not to exceed six months). Note that expressions of interest using another NAFO Contracting Party vessel under charter should be accompanied by a detailed description of anticipated benefits to the United States, as described above.

Any vessel wishing to enter into a chartering arrangement with the United States must be in full current compliance with the requirements outlined in the NAFO Convention and Conservation and Enforcement Measures. These requirements include, but are not limited to, submission of the following reports to the NAFO Executive Secretary: notification that the vessel is authorized by its flag state to fish within the NAFO Regulatory Area during 2014; provisional monthly catch reports for all vessels of that NAFO Contracting Party operating in the NAFO Regulatory Area; daily catch reports for each day fished by the subject vessel within the Regulatory Area; observer reports within 30 days following the completion of a fishing trip; and an annual statement of actions taken by its flag state to comply with the NAFO Convention. The United States may also consider the vessel's previous compliance with NAFO bycatch, reporting and other provisions, as outlined in the NAFO Conservation and Enforcement Measures, before entering into a chartering arrangement. More details on NAFO requirements for chartering operations are available from Patrick E. Moran (see ADDRESSES).

What if I want to arrange for a transfer of U.S. quota allocations to another NAFO party?

Under NAFO rules in effect for 2014, the United States may transfer fishing opportunities with the consent of the receiving NAFO Contracting Party and with prior notification to the NAFO Executive Secretary. An applicant may request to arrange for any of the above U.S. opportunities to be transferred to another NAFO party, although such applications will likely to be given lesser priority than those that involve more direct harvesting or processing by U.S. entities. Applications to arrange for a transfer of U.S. fishing opportunities should contain a letter of consent from the receiving NAFO Contracting Party, and should also be accompanied by a detailed description of anticipated benefits to the United States. As in the case of chartering operations, the United States may also consider a NAFO Contracting Party's previous compliance with NAFO bycatch, reporting and other provisions, as outlined in the NAFO Conservation and Enforcement Measures, before entering agreeing to a transfer. More details on NAFO requirements for transferring NAFO allocations are available from Patrick E. Moran (see ADDRESSES).

What if I want to arrange to receive a transfer of NAFO quota allocations from another NAFO party?

Under NAFO rules in effect for 2014, the United States may receive transfers of additional fishing opportunities from other NAFO Contracting Parties. The United States is required to provide a letter of consent to this transfer and prior notification to the NAFO Executive Secretary. In the event that an applicant is able to arrange for the transfer of additional fishing opportunities from a fishing company of another NAFO Contracting Party, the United States may agree to facilitate such a transfer insofar as fulfilling the NAFO requirements for such transfers after soliciting additional public input on such transfers as appropriate. As in the case of chartering operations, the United States may also consider a NAFO Contracting Party's previous compliance with NAFO bycatch, reporting and other provisions, as outlined in the NAFO Conservation and Enforcement Measures, before agreeing to accept a transfer. Any fishing quota or other harvesting opportunities received via this type of transfer are subject to all U.S and NAFO rules as detailed below. For more details on NAFO requirements for transferring NAFO allocations, contact Patrick E. Moran (see ADDRESSES).

What rules must I follow while fishing?

U.S. applicant vessels must be in possession of, or obtain, a valid HSFCA permit, which is available from the NMFS Northeast Regional Office. Note that vessels issued valid HSFCA permits under 50 CFR part 300 are exempt from the Northeast multispecies and monkfish permit, mesh size, effort-control, and possession limit restrictions, specified in 50 CFR 648.4, 648.80, 648.82, 648.86, 648.87, 648.91, 648.92, and 648.94, respectively, while transiting the U.S. exclusive economic zone (EEZ) with multispecies and/or monkfish on board the vessel, or landing multispecies and/or monkfish in U.S. ports that were caught while fishing in the NAFO Regulatory Area, provided:

1. The vessel operator has a letter of authorization issued by the Regional Administrator on board the vessel;

2. For the duration of the trip, the vessel fishes, except for transiting purposes, exclusively in the NAFO Regulatory Area and does not harvest fish in, or possess fish harvested in, or from, the U.S. EEZ;

3. When transiting the U.S. EEZ, all gear is properly stowed in accordance with one of the applicable methods specified in 50 CFR 648.23(b); and

4. The vessel operator complies with the provisions/conditions specified on the HSFCA permit and all NAFO conservation and enforcement measures while fishing in the NAFO Regulatory Area.

Relevant NAFO Conservation and Enforcement Measures include, but are not limited to, maintenance of a fishing logbook with NAFO-designated entries; adherence to NAFO hail system requirements; presence of an on-board observer; deployment of a functioning, autonomous vessel monitoring system authorized by issuance of the HSFCA permit; and adherence to all relevant minimum size, gear, bycatch, and other requirements. Further details regarding U.S. and NAFO requirements are available from the NMFS Northeast Regional Office, and can also be found in the 2014 NAFO Conservation and Enforcement Measures on the Internet (see ADDRESSES).

Dated: January 15, 2014.
Rodney R. McInnis,
Acting Director, Office of International Affairs, National Marine Fisheries Service.

[FR Doc. 2014-01084 Filed 1-21-14; 8:45 am]

BILLING CODE 3510-22-P